DEPARTMENT OF TRANSPORTATION

Federal Aviation Administration

14 CFR Part 71

[Docket No. FAA-2013-0565; Airspace Docket No. 13-AEA-11]

Amendment of Class D and E Airspace; Wrightstown, NJ

AGENCY: Federal Aviation Administration (FAA), DOT.

ACTION: Final rule, technical amendment.

SUMMARY: This action amends Class D and E Airspace at Wrightstown, NJ, by updating the geographic coordinates and changing the city identifier of McGuire Air Force Base (AFB) to aid in the navigation of our National Airspace System. This action is necessary for the continued safety and management of instrument flight rules (IFR) operations within the Wrightstown, NJ airspace area.

DATES: Effective date 0901 UTC, October 17, 2013. The Director of the Federal Register approves this incorporation by reference action under Title 1, Code of Federal Regulations part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

The Rule

This amendment to Title 14, Code of Federal Regulations (14 CFR) part 71 amends Class D airspace and E airspace designated as an extension to a Class D surface area at McGuire AFB, Wrightstown, NJ, at the request of FAAs Aeronautical Products. The geographic coordinates of the airport are updated to be in concert with the FAAs aeronautical database and the city designation is changed from Wrightstown McGuire AFB, NJ, to Wrightstown, NJ. Accordingly, since this is an administrative change, and does not affect the boundaries, altitudes, or operating requirements of the airspace, notice and public procedures under 5 U.S.C. 553 (b) are unnecessary.

The Class D and E airspace designations are published in Paragraph 5000 and 6004 respectively of FAA Order 7400.9W, dated August 8, 2012, and effective September 15, 2012, which is incorporated by reference in 14 CFR 71.1. The Class D and Class E airspace designations listed in this document will be published subsequently in the Order.

The FAA has determined that this regulation only involves an established body of technical regulations for which frequent and routine amendments are necessary to keep them, operationally current, is non-controversial and unlikely to result in adverse or negative comments. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A. Subpart I, Section 40103. Under that section, the FAA is charged with prescribing regulations to assign the use of airspace necessary to ensure the safety of aircraft and the efficient use of airspace. This regulation is within the scope of that authority as it amends controlled airspace for the Wrightstown, NJ airspace area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (Air).

Adoption of the Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9W, Airspace Designations and Reporting Points, dated August 8, 2012, effective September 15, 2012, is amended as follows:

Paragraph 5000 Class D Airspace

* * * * *

AEA NJ D Wrightstown, NJ [Amended]

McGuire AFB, NJ

(Lat. 40°00′56″ N., long. 74°35′30″ W.)

That airspace extending upward from the surface to and including 2,600 feet MSL within a 4.5-mile radius of McGuire AFB.

Paragraph 6004 Class E Airspace Designated as an Extension to a Class D Surface Area.

* * * * *

AEA NJ E4 Wrightstown, NJ [Amended]

McGuire AFB, NJ

(Lat. 40°00′56″ N., long. 74°35′30″ W.)

McGuire VORTAC

(Lat. 40°00′34″ N., long. 74°35′47″ W.)

That airspace extending upward from the surface within 1.8 miles each side of the McGuire VORTAC 350° radial extending from the 4.5-mile radius of McGuire AFB to 6.1 miles north of the VORTAC and within 1.8 miles each side of the McGuire VORTAC 051° radial extending from the 4.5-mile radius of the airport to 6.1 miles northeast of the VORTAC and within 1.8 miles each side of the McGuire VORTAC 180° radial extending from the 4.5-mile radius of the airport to 5.2 miles south of the VORTAC and within 1.8 miles each side of the McGuire AFB ILS localizer southwest course extending from the 4.5-mile radius of the airport to 7 miles southwest of the localizer.

Issued in College Park, Georgia, on August 16, 2013.
Kip B. Johns,
Manager, Operations Support Group, Eastern Service Center, Air Traffic Organization.

[FR Doc. 2013-20497 Filed 8-22-13; 8:45 am]

BILLING CODE 4910-13-P